DEPARTMENT OF HOMELAND SECURITY

Federal Emergency Management Agency

[Docket ID FEMA-2010-0022]

Environmental Planning and Historic Preservation Compliance Costs Policy; Environmental Planning and Historic Preservation Mitigation Policy

AGENCY: Federal Emergency Management Agency, DHS.

ACTION: Notice of availability; request for comments.

SUMMARY: The Federal Emergency Management Agency (FEMA) is accepting comments on a draft Environmental Planning and Historic Preservation Compliance Costs policy and a draft Environmental Planning and Historic Preservation Mitigation policy.

DATES: Comments must be received by June 10, 2010.

ADDRESSES: Comments must be identified by docket ID FEMA-2010-0022 and may be submitted by one of the following methods:

Federal eRulemaking Portal: http://www.regulations.gov. Follow the instructions for submitting comments. Please note that the proposed policies are not rulemakings and the Federal Rulemaking Portal is being utilized only as a mechanism for receiving comments.

Mail: Regulation & Policy Team, Office of Chief Counsel, Federal Emergency Management Agency, Room 835, 500 C Street, SW., Washington, DC 20472-3100.

FOR FURTHER INFORMATION CONTACT: Laura Shick, Federal Emergency Management Agency, Office of Environmental Planning and Historic Preservation, 1800 S. Bell Street, 7th Floor, Arlington, VA 20598-3020, 202-646-2685.

SUPPLEMENTARY INFORMATION:

I. Public Participation

Instructions: All submissions received must include the agency name and docket ID. Regardless of the method used for submitting comments or material, all submissions will be posted, without change, to the Federal eRulemaking Portal at http://www.regulations.gov, and will include any personal information you provide. Therefore, submitting this information makes it public. You may wish to read the Privacy Act notice, which can be viewed by clicking on the “Privacy Notice” link in the footer of http://www.regulations.gov.

You may submit your comments and material by the methods specified in the ADDRESSES section above. Please submit your comments and any supporting material by only one means to avoid the receipt and review of duplicate submissions.

Docket: The proposed policies are available in docket ID FEMA-2010-0022. For access to the docket to read background documents or comments received, go to the Federal eRulemaking Portal at http://www.regulations.gov and search for the docket ID. Submitted comments may also be inspected at FEMA, Office of Chief Counsel, Room 835, 500 C Street, SW., Washington, DC 20472.

II. Background

The draft Environmental Planning and Historic Preservation Compliance Costs policy establishes FEMA's policy on who is responsible to pay for the costs of FEMA's environmental planning and historic preservation (EHP) review, EHP analysis preparation, and execution of EHP mitigation measures. The draft Environmental Planning and Historic Preservation Mitigation policy establishes FEMA's policy on the negotiation and adoption of avoidance, minimization, mitigation, and compensation measures to address adverse effects to the environment, including cultural and historic resources.

The proposed policies do not have the force or effect of law.

FEMA seeks comment on the proposed policies, which are available online at http://www.regulations.gov in docket ID FEMA-2010-0022. Based on the comments received, FEMA may make appropriate revisions to the proposed policies. Although FEMA will consider any comments received in the drafting of the final policies, FEMA will not provide a response to comments document. When or if FEMA issues final policies, FEMA will publish a notice of availability in the Federal Register and make the final policies available at http://www.regulations.gov. The final policies will not have the force or effect of law.

Authority: 42 U.S.C. 4321 et seq.; 40 CFR part 1500; 44 CFR part 10.

David J. Kaufman,
Director, Office of Policy and Program Analysis, Federal Emergency Management Agency.

[FR Doc. 2010-11031 Filed 5-10-10; 8:45 am]

BILLING CODE 9111-19-P